DEPARTMENT OF HOUSING AND URBAN DEVELOPMENT

[Docket No. FR-7071-N-08]

60-Day Notice of Proposed Reinstatement of Expired Information Collection Home Equity Conversion Mortgage (HECM) Counseling Standardization, Application for Certificate of HECM Counseling and HECM Counselor Roster OMB Control No.: 2502-0586

AGENCY: Office of the Assistant Secretary for Housing—Federal Housing Commissioner, HUD.

ACTION: Notice.

SUMMARY: HUD is seeking approval from the Office of Management and Budget (OMB) for the reinstatement of the expired information collection described below. In accordance with the Paperwork Reduction Act, HUD is requesting comment from all interested parties on the proposed collection of information. The purpose of this notice is to allow for 60 days of public comment.

DATES: Comments Due Date: October 30, 2023.

ADDRESSES: Interested persons are invited to submit comments regarding this proposal. Written comments and recommendations for the proposed information collection can be submitted within 60 days of publication of this notice to www.reginfo.gov/public/do/PRAMain. Find this particular information collection by selecting “Currently under 60-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000 or email at PaperworkReductionActOffice@hud.gov.

FOR FURTHER INFORMATION CONTACT: Colette Pollard, Reports Management Officer, REE, Department of Housing and Urban Development, 451 7th Street SW, Washington, DC 20410; email Colette Pollard at Colette.Pollard@hud.gov or telephone 202-402-3400. This is not a toll-free number. HUD welcomes and is prepared to receive calls from individuals who are deaf or hard of hearing, as well as individuals with speech or communication disabilities. To learn more about how to make an accessible telephone call, please visit: https://www.fcc.gov/consumers/guides/telecommunications-relay-service-trs.

Copies of available documents submitted to OMB may be obtained from Ms. Pollard.

SUPPLEMENTARY INFORMATION: This notice informs the public that HUD is seeking approval from OMB for the information collection described in Section A.

A. Overview of Information Collection

Title of Information Collection: Home Equity Conversion Mortgage (HECM) Counseling Standardization, Application for HECM Counselor Roster, and Certificate of HECM Counseling.

OMB Approval Number: 2502-0586.

OMB Expiration Date: August 31, 2018.

Type of Request: Reinstatement, with change, of previously approved collection for which approval has expired.

Form Numbers: HUD-92902 and HUD-92904.

Description of the need for the information and proposed use: Reinstatement of previously approved collection to provide and maintain a current HUD approved HECM counselor roster. Counseling is required for all borrowers seeking to obtain an HUD insured HECM. The HECM Counselor examination and the HECM Roster application, HUD Form 92904, assist HUD in evaluating the knowledge and capacity of individuals interested in providing HECM counseling to potential HECM borrowers, thereby satisfying statutory requirements and reducing the risk to the insurance fund. The addition of the Certificate of HECM Counseling, HUD Form 92902, which is currently part of OMB Collection 2502-0524, to this collection is appropriate because the Office of Housing Counseling regulates all items pertinent to the roles of HUD-approved housing counselors, which includes HECM Roster Counselors. OMB Collection 2502-0524 was recently approved by OMB and has an expiration date of 4/30/2024. Revisions to HUD Form 92902 were necessary as per recommendations made by HUD OGC to ensure compliance with the Paperwork Reduction Act burden statement as required in 5 CFR 1320.8(b)(3) and the Privacy Act Notice requirements in 5 U.S.C. 552a(e)(3).

Respondents: Individuals or households; Not-for-profit institutions; State, Local or Tribal Government.

Estimated Number of Respondents: 28,459.

Estimated Number of Responses: 28,459.

Frequency of Response:

HECM Counseling Standardization—14,000

HUD-92902, Certification of HECM Counseling—14,000

HUD-92904, Application for HECM Roster Counselor—305

Reporting continuing education for HECM Roster counselor biennial recertification -152

Termination of an HECM Roster Counselor—Once

Average Hours per Response: 1 hour.

Total Estimated Burden: 45,943 hours.

Information collection 2502-0586/type of respondent | Form name/form number collection tool | Number of respondents | Frequency of response | Responses per year | Average burden hours per response | Annual burden hours | Hourly cost per response (hourly wage rate) | Total annual respondent cost
Non-profit (National and Regional Intermediaries, Multi-State Organizations, Local HUD- approved HCAs) | Counseling Standardization | 13,125 | 1 | 13,125 | 1.25 | 16,406.25 | $53.74 | $881,671.88
State, Local, or Tribal Government HCAs | Counseling Standardization | 875 | 1 | 875 | 1.25 | 1,093.75 | 53.74 | 58,778.13
Non-profit (Intermediaries, Multi-State Organizations, Local HCAs) | “Certificate of HECM Counseling”/HUD-92902 | 13,125 | 1 | 13,125 | 2 | 26,250 | 53.74 | 1,410,675.00
State, Local, or Tribal Govt | “Certificate of HECM Counseling”/HUD-92902 | 875 | 1 | 875 | 2 | 1,750 | 53.74 | 94,045.00
Non-profit (Intermediaries, Multi-State Organizations, Local HCAs) | “Application for HECM Counselor Roster” HUD-92904 and establishing counseling ID in FHA Connection system | 244 | 1 | 244 | 1.30 | 317.20 | 53.74 | 17,046.33
State, Local, or Tribal Govt | “Application for HECM Counselor Roster” HUD-92904 and establishing counselor ID in FHA Connection system | 61 | 1 | 61 | 1.30 | 79.30 | 53.74 | 4,261.58
Non-profit (Intermediaries, Multi-State Organizations, Local HCAs) | Reporting HECM Roster Counselor Continuing Education course for Biennial Recertification | 122 | 1 | 122 | .30. | 36.60 | 53.74 | 1,966.88
State, Local, or Tribal Govt | Reporting HECM Roster Counselor Continuing Education course for Biennial Recertification | 30 | 1 | 30 | .30 | 9 | 53.74 | 483.66
Non-profit (Intermediaries, Multi-State Organizations, Local HCAs) | Written request for Terminating a HECM Roster Counselor a HECM Roster Counselor | 1 | 1 | 1 | .25 | .25 | 53.74 | 13.44
State, Local, or Tribal Govt | Written request for Terminating a HECM Roster Counselor | 1 | 1 | 1 | .25 | .25 | 53.74 | 13.44
Totals |  | 28,459 |  | 28,459 |  | 45,943 |  | 2,468,955.34
* Note: The total annual burden hours has been rounded up to 45,943 hours to be consistent with OMB's system ROCIS.*

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority:

Section 3507 of the Paperwork Reduction Act of 1995, 44 U.S.C. chapter 35.

Jeffrey D. Little,
General Deputy Assistant Secretary for Housing.

[FR Doc. 2023-18570 Filed 8-28-23; 8:45 am]

BILLING CODE 4210-67-P